DEPARTMENT OF COMMERCE

National Oceanic and Atmospheric Administration

[I.D. 060804B]

Marine Mammals; File Nos. 1065-1749 and 1034-1685

AGENCY: National Marine Fisheries Service (NMFS), National Oceanic and Atmospheric Administration (NOAA), Commerce.

ACTION: Receipt of applications.

SUMMARY: Notice is hereby given that the following individuals have applied in due form for permits or permit amendments to conduct scientific research on marine mammals: Dr. Patrick Butler, University of Birmingham, School of Biosciences, Edgbaston, Birmingham, United Kingdom (File No. 1069-1749); and Dr. Markus Horning, Texas A&M University, Laboratory for Applied Biotelemetry and Biotechnology, Department of Marine Biology, 5007 Avenue U, Galveston, TX 77551 (Permit No. 1034-1685).

DATES: Written, telefaxed, or e-mail comments must be received on or before July 19, 2004.

ADDRESSES: The applications and related documents are available for review upon written request or by appointment in the following offices:

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on the particular request would be appropriate.

Comments may also be submitted by facsimile to (301)713-0376, provided the facsimile is confirmed by hard copy submitted by mail and postmarked no later than the closing date of the comment period.

Additionally, comments may be submitted by e-mail. The mailbox address for providing email comments is NMFS.Pr1Comments@noaa.gov. Include the appropriate File No. (1065-1749 or 1034-1685) as a document identifier in the subject line of the e-mail comment.

FOR FURTHER INFORMATION CONTACT: Dr. Tammy Adams or Amy Sloan, (301)713-2289.

SUPPLEMENTARY INFORMATION: The subject permit and permit amendment are requested under the authority of the Marine Mammal Protection Act of 1972, as amended (MMPA; 16 U.S.C. 1361 et seq.), and the Regulations Governing the Taking and Importing of Marine Mammals (50 CFR part 216).

File No. 1065-1749:The applicant requests a 5-year permit to develop a heart rate logger and surgical procedures for implanting instruments in pinnipeds in general and in Steller sea lions (Eumetopias jubatus) in particular. The applicant proposes to use California sea lions (Zalophus californianus), Northern elephant seals (Mirounga angustirostris), and Northern fur seals (Callorhinus ursinus) from animals in rehabilitation at The Marine Mammal Center (TMMC) in Sausalito, California, for development and monitoring trials. The purpose of the implantable heart rate logger is to measure heart rate and body temperature over periods of months to years, allowing estimation of field metabolic rates which will enable greatly improved assessment of food requirements of free-ranging individuals over more representative samples of their life histories than has been possible thus far. While actual numbers will vary depending on availability, the total number of marine mammals proposed for the trials is up to six individuals of each species over five years.

Permit No. 1034-1685: Permit No. 1034-1685, issued on March 17, 2003 (68 FR 20117) and which expires on April 30, 2008, currently authorizes the holder to surgically implant transmitters in 30 rehabilitated California sea lions at TMMC to determine long-term post-release survival rates; attach external tags for short-term monitoring; blood sample to assess stress and health; and assess body condition through blubber biopsies, bioelectrical impedance analysis, deuterium dilution determinations, and blubber ultrasound measurements. Researchers may perform blood and blubber sampling, bioelectrical impedance analyses, deuterium dilutions, and blubber ultrasound measurements on an additional 90 control animals. The permit holder requests an amendment to study the adrenal response of California sea lions. A total of up to six sea lions undergoing rehabilitation at TMMC would be injected intramuscularly with adrenocorticotropic hormone and have pre-injection and post-injection blood samples taken while under anesthesia for analysis of glucocorticoids. Feces would also be collected for analysis.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of the applications to the Marine Mammal Commission and its Committee of Scientific Advisors.

Dated: June 8, 2004.
Stephen L. Leathery,
Chief, Permits, Conservation and Education Division, Office of Protected Resources, National Marine Fisheries Service.

[FR Doc. 04-13732 Filed 6-17-04; 8:45 am]

BILLING CODE 3510-22-S